DEPARTMENT OF TRANSPORTATION

Federal Aviation Administration

[Docket No. FAA-2004-19058; FAA Order 5050.4B]

National Environmental Policy Act (NEPA) Implementing Instructions for Airport Actions

AGENCY: Federal Aviation Administration, DOT.

ACTION: Notice of Minor Changes to Order 5050.4B.

SUMMARY: On April 28, 2006, the Federal Aviation Administration's Office of Airports (ARP) issued a Notice of Availability for Order 5050.4B, National Environmental Policy Act (NEPA) Implementing Instructions for Airport Actions (71 FR 25279). Today's Notice alerts interested parties that ARP has posted an edited version of the Order at: http://www.faa.gov/airports_airtraffic/airports/resources/publications/orders/environmental_5050_4/. The newly posted Order corrects minor grammatical and spelling errors and incorrect paragraph citations present in the Order issued on April 28, 2006. The revisions do not change the Order's content.

FOR FURTHER INFORMATION CONTACT: Mr. Ed Melisky, FAA Office of Airports Planning and Environmental Division, FAA, 800 Independence Avenue, SW., Washington, DC 20591; telephone (202) 267-5869. His e-mail address is: edward.melisky@faa.gov.

Dated: June 28, 2006.
Dennis E. Roberts,
Director, Office of Airport, Planning and Programming, APP-1.

[FR Doc. E6-11564 Filed 7-19-06; 8:45 am]

BILLING CODE 4910-13-P